DEPARTMENT OF JUSTICE

[Docket No. CRT146]

Notice of Rescission of Guidance to Federal Financial Assistance Recipients Regarding Title VI Prohibition Against National Origin Discrimination Affecting Limited English Proficient Persons

AGENCY: Civil Rights Division, Department of Justice.

ACTION: Notice.

SUMMARY: This notice announces the Department of Justice's (“Department”) rescission of its Guidance to Federal Financial Assistance Recipients Regarding Title VI Prohibition Against National Origin Discrimination Affecting Limited English Proficient Persons, consistent with an Executive Order entitled Designating English as the Official Language of the United States.

DATES: Applicable March 21, 2025.

FOR FURTHER INFORMATION CONTACT: Federal Coordination and Compliance Section, Civil Rights Division, at (202) 307-2222, Voice/TTY: 1-888-848-5306, or via email at FCS.CRT@usdoj.gov. Christine Stoneman, Chief, Federal Coordination and Compliance Section, Civil Rights Division at (202) 305-2222.

SUPPLEMENTARY INFORMATION:

I. Background

On March 1, 2025, the President signed Executive Order (“E.O.”) 14224, Designating English as the Official Language of the United States. See 90 FR 11363 (Mar. 1, 2025). Among other things, E.O. 14224 revoked E.O. 13166, Improving Access to Services for Persons With Limited English Proficiency. See 65 FR 50121 (Aug. 16, 2000); E.O. 14224 (§ 3(b)). E.O. 14224 also directed the Attorney General to “rescind any policy guidance documents issued pursuant to Executive Order 13166 and provide updated guidance, consistent with law.” Id. (§ 3(c)).

E.O. 13166 directed “[e]ach agency providing Federal financial assistance shall draft title VI guidance specifically tailored to its recipients that is consistent with the LEP Guidance issued by the Department of Justice,” which were then to be published in the Federal Register for public comment. E.O. 13166 (§ 3). Title VI of the Civil Rights Act of 1964, 42 U.S.C. 2000d (Title VI), prohibits discrimination against or otherwise excluding individuals from programs or activities on the basis of race, color, or national origin, if those programs or activities receive federal financial assistance. In addition to drafting the model guidance, the Department issued its own agency-specific Title VI guidance, which was finalized in 2002 after a notice and comment period. Guidance to Federal Financial Assistance Recipients Regarding Title VI Prohibition Against National Origin Discrimination Affecting Limited English Proficient Persons, 67 FR 41455 (June 18, 2002) (“2002 DOJ LEP Guidance”).

II. Rescission of DOJ LEP Guidance

Consistent with E.O. 14224, the Department rescinded its 2002 DOJ LEP Guidance on March 21, 2025.

III. Continuing Obligation

All recipients of Department financial assistance have a continuing obligation to comply with Title VI, all applicable Title VI implementing regulations, all applicable federal civil rights laws and nondiscrimination provisions. Recipients of federal financial assistance also have a continuing obligation under the Rehabilitation Act of 1973 to ensure that their communications with individuals with disabilities are as effective as communications with others and may need to provide qualified sign language interpreters for individuals who are deaf. Recipients of federal financial assistance, including subrecipients, are reminded that the denial of language assistance services can be evidence of discrimination on the basis of national origin or disability under certain circumstances. The Department will be issuing updated guidance, consistent with law, as required by E.O. 14224.

Dated: April 9, 2025.
Harmeet K. Dhillon,
Assistant Attorney General, Civil Rights Division.

[FR Doc. 2025-06366 Filed 4-14-25; 8:45 am]

BILLING CODE 4410-13-P